DEPARTMENT OF JUSTICE

Drug Enforcement Administration

[Docket No. DEA-852]

Bulk Manufacturer of Controlled Substances Application: AMPAC Fine Chemicals Virginia, LLC

AGENCY: Drug Enforcement Administration, Justice.

ACTION: Notice of application.

SUMMARY: AMPAC Fine Chemicals Virginia, LLC. has applied to be registered as a bulk manufacturer of basic class(es) of controlled substance(s). Refer to SUPPLEMENTARY INFORMATION listed below for further drug information.

DATES: Registered bulk manufacturers of the affected basic class(es), and applicants therefore, may file written comments on or objections to the issuance of the proposed registration on or before August 16, 2021. Such persons may also file a written request for a hearing on the application on or before August 16, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on May 5, 2021, AMPAC Fine Chemicals Virginia, LLC., 2820 North Normandy Drive, Petersburg, Virginia 23805-2380, applied to be registered as a bulk manufacturer of the following basic class(es) of controlled substance(s):

Controlled substance | Drug code | Schedule
Methylphenidate | 1724 | II
Levomethorphan | 9210 | II
Levorphanol | 9220 | II
Morphine | 9300 | II
Thebaine | 9333 | II
Noroxymorphone | 9668 | II
Tapentadol | 9780 | II

The company plans to bulk manufacture the listed controlled substances for the internal use intermediates or for sale to its customers. The company plans to manufacture the above-listed controlled substances in bulk for distribution to its customers. No other activities for these drug codes are authorized for this registration.

William T. McDermott,
Assistant Administrator.

[FR Doc. 2021-12812 Filed 6-16-21; 8:45 am]

BILLING CODE P